DEPARTMENT OF THE INTERIOR

Bureau of Land Management

[LLMTL06000.L14300000.ET0000; MTM 78802]

Notice of Realty Action: Termination of Segregation, Opening of Public Lands; Montana

AGENCY: Bureau of Land Management, Interior.

ACTION: Notice of realty action.

SUMMARY: This notice partially terminates the segregative effect of a proposed Alluvial Valley Floor (AVF) coal land exchange as to 961.09 acres of public land located in Big Horn County, Montana. This order opens 360 acres to settlement, sale, location, and entry under the public land laws and the mining and mineral leasing laws. This order also opens 601.09 acres to the mining and mineral leasing laws.

DATES: December 6, 2011.

FOR FURTHER INFORMATION CONTACT: Phil Perlewitz, BLM Montana State Office, 5001 Southgate Drive, Billings, Montana 59101, (406) 896-5159, pperlewi@blm.gov or Pam Wall, BLM Miles City Field Office, 111 Garryowen Road, Miles City, Montana 59301, (406) 233-2846, pkwall@blm.gov. Persons who use a telecommunications device for the deaf (TDD) may call the Federal Information Relay Service (FIRS) at 1-(800) 877-8339 to contact either of the above individuals during normal business hours. The FIRS is available 24 hours a day, 7 days a week, to leave a message or question with either of the above individuals. You will receive a reply during normal business hours.

SUPPLEMENTARY INFORMATION: On June 10, 2009, the coal land was segregated for a proposed AVF coal land exchange. The following-described land was removed from the exchange proposal and the segregative effect is hereby terminated:

1. Principal Meridian, Montana

(a) T. 8 S., R. 39 E.,

Sec. 35, E½.

T. 9 S., R. 39 E.,

Sec. 1, SE¼SW¼.

The area described contains 360.00 acres in Big Horn County.

(b) T. 9 S., R. 39 E.,

Sec. 1, Lots 1 to 4, W½E½, NW¼, N½SW¼, and SW¼SW¼.

The area described contains 601.09 acres in Big Horn County.

The total areas described in (a) and (b) aggregate 961.09 acres in Big Horn County.

2. At 9 a.m. on December 6, 2011, the lands described in Paragraph 1(a) above will be opened to the operation of the public land laws generally, subject to valid existing rights, the provisions of existing withdrawals, other segregations of record, and the requirements of applicable law. All valid applications received at or prior to 9 a.m. on December 6, 2011, shall be considered as simultaneously filed at that time. Those received thereafter shall be considered in the order of filing.

3. At 9 a.m. on December 6, 2011, the lands described in Paragraph 1(a) and (b) above will be opened to location and entry under the United States mining laws, subject to valid existing rights, the provision of existing withdrawals, other segregations of record, and the requirements of applicable law. Appropriation of any of the lands described in this order under the general mining laws prior to the date and time of restoration is unauthorized. Any such attempted appropriation, including attempting adverse possession under 30 U.S.C. 38, shall vest no rights against the United States. Acts required to establish a location and to initiate a right of possession are governed by state law where not in conflict with Federal law. The Bureau of Land Management will not intervene in disputes between rival locators over possessory rights since Congress has provided for such determinations in local courts.

4. At 9 a.m. on December 6, 2011, the lands described in Paragraph 1(a) and (b) above will be opened to the operation of the mineral leasing laws, subject to valid existing rights, the provisions of existing withdrawals, other segregations of record, and the requirements of applicable law.

(Authority: 43 CFR 2201.1-2(c)(2); 43 CFR 2091.3-2(b))

Jamie E. Connell,
Montana/Dakotas State Director.

[FR Doc. 2011-31207 Filed 12-5-11; 8:45 am]

BILLING CODE 4310-DN-P